DEPARTMENT OF LABOR

Employment and Training Administration

[TA-W-60,404]

Dickten Masch Plastics, LLC, Hattiesburg Plant, a Subsidiary of Everett Smith Group, Hattiesburg, MS; Notice of Termination of Investigation

Pursuant to Section 221 of the Trade Act of 1974, as amended, an investigation was initiated on November 13, 2006 in response to a petition filed by a company official on behalf of workers at Dickten Masch Plastics, a subsidiary of Everett Smith Group, Hattiesburg Plant, Hattiesburg, Mississippi.

The petitioner has requested that the petition be withdrawn. Consequently, the investigation has been terminated.

Dated: December 7, 2006.
Linda G. Poole,
Certifying Officer, Division of Trade Adjustment Assistance.

[FR Doc. E6-21256 Filed 12-13-06; 8:45 am]

BILLING CODE 4510-30-P